DEPARTMENT OF THE TREASURY

Internal Revenue Service

26 CFR Part 1

[REG-125632-06]

RIN 1545-BF83

Corporate Reorganizations; Distributions Under Sections 368(a)(1)(D) and 354(b)(1)(B); Correction Notice

AGENCY: Internal Revenue Service (IRS), Treasury.

ACTION: Notice of proposed rulemaking by cross-reference to temporary regulations; correction notice.

SUMMARY: This document contains corrections to notice of proposed rulemaking by cross-reference to temporary regulations that was published in the Federal Register on Tuesday, December 19, 2006 (71 FR 75898) providing guidance regarding the qualification of certain transactions as reorganizations described in section 368(a)(1)(D) where no stock and/or securities of the acquiring corporation are issued and distributed in the transaction.

FOR FURTHER INFORMATION CONTACT: Bruce A. Decker at (202) 622-7550 (not a toll-free number).

SUPPLEMENTARY INFORMATION:

Background

The notice of proposed rulemaking by cross-reference to temporary regulations (REG-125632-06) that is the subject of these corrections are under sections 368 and 354 of the Internal Revenue Code.

Need for Correction

As published, notice of proposed rulemaking by cross-reference to temporary regulations (REG-125632-06) contains errors that may prove to be misleading and are in need of clarification.

Correction of Publication

Accordingly, the notice of proposed rulemaking by cross-reference to temporary regulations (REG-125632-06) that was the subject of FR Doc. E6-21572, is corrected as follows:

On page 75898, column 3, in the preamble, under the caption, line 9, the language “acquiring corporation is issued and” is corrected to read “acquiring corporation are issued and.”

LaNita Van Dyke,
Chief, Publications and Regulations Branch, Legal Processing Division, Office of Associate Chief Counsel (Procedure and Administration).

[FR Doc. E7-860 Filed 1-23-07; 8:45 am]

BILLING CODE 4830-01-P